DEPARTMENT OF HEALTH AND HUMAN SERVICES

National Institutes of Health

Center for Scientific Review; Cancellation of Meeting

Notice is hereby given of the cancellation of the Center for Scientific Review Special Emphasis Panel, April 01, 2021, 1:00 p.m. to April 01, 2021, 4:00 p.m., National Institutes of Health, Rockledge II, 6701 Rockledge Drive, Bethesda, MD, 20892 which was published in the Federal Register on March 5, 2021, 86 FR 12957.

This notice is being amended to announce that the meeting is cancelled.

Dated: March 16, 2021.
Miguelina Perez,
Program Analyst, Office of Federal Advisory Committee Policy.

[FR Doc. 2021-05735 Filed 3-18-21; 8:45 am]

BILLING CODE 4140-01-P